DEPARTMENT OF TRANSPORTATION

Federal Aviation Administration

14 CFR Part 39

[Docket No. FAA-2023-2245; Project Identifier MCAI-2023-00973-R; Amendment 39-22698; AD 2024-05-07]

RIN 2120-AA64

Airworthiness Directives; Leonardo S.p.a. Helicopters

AGENCY: Federal Aviation Administration (FAA), DOT.

ACTION: Final rule.

SUMMARY: The FAA is adopting a new airworthiness directive (AD) for all Leonardo S.p.a. Model AW189 helicopters. This AD was prompted by a determination that new or more restrictive airworthiness limitations are necessary. This AD requires revising the airworthiness limitations section (ALS) of the existing helicopter maintenance manual or instructions for continued airworthiness (ICA) for your helicopter and the existing approved maintenance or inspection program for your helicopter, as applicable, as specified in a European Union Aviation Safety Agency (EASA) AD, which is incorporated by reference. The FAA is issuing this AD to address the unsafe condition on these products.

DATES: This AD is effective May 14, 2024.

The Director of the Federal Register approved the incorporation by reference of a certain publication listed in this AD as of May 14, 2024.

ADDRESSES:

AD Docket: You may examine the AD docket at regulations.gov under Docket No. FAA-2023-2245; or in person at Docket Operations between 9 a.m. and 5 p.m., Monday through Friday, except Federal holidays. The AD docket contains this final rule, the EASA AD, any comments received, and other information. The address for Docket Operations is U.S. Department of Transportation, Docket Operations, M-30, West Building Ground Floor, Room W12-140, 1200 New Jersey Avenue SE, Washington, DC 20590.

Material Incorporated by Reference:

• For EASA material that is incorporated by reference in this final rule, contact EASA, Konrad-Adenauer-Ufer 3, 50668 Cologne, Germany; telephone +49 221 8999 000; email ADs@easa.europa.eu; internet easa.europa.eu. You may find the EASA material on the EASA website at ad.easa.europa.eu.

• You may view this material at the FAA, Office of the Regional Counsel, Southwest Region, 10101 Hillwood Pkwy., Room 6N 321, Fort Worth, TX 76177. For information on the availability of this material at the FAA, call (817) 222-5110. It is also available at regulations.gov under Docket No. FAA-2023-2245.

Other Related Service Information: For Leonardo Helicopters service information identified in this final rule, contact Leonardo S.p.A., Emanuele Bufano, Head of Airworthiness, Viale G. Agusta 520, 21017 C. Costa di Samarate (Va) Italy; telephone (+39) 0331-225074; fax (+39) 0331-229046; or at customerportal.leonardocompany.com/en-US/. You may also view this service information at the FAA contact information under Material Incorporated by Reference above.

FOR FURTHER INFORMATION CONTACT: Sungmo Cho, Aviation Safety Engineer, FAA, 1600 Stewart Avenue, Suite 410, Westbury, NY 11590; phone (781) 238-7241; email: Sungmo.D.Cho@faa.gov.

SUPPLEMENTARY INFORMATION:

Background

EASA, which is the Technical Agent for the Member States of the European Union, has issued a series of ADs with the most recent being EASA AD 2023-0161, dated August 16, 2023 (EASA AD 2023-0161), to correct an unsafe condition on Leonardo S.p.A. Model AW189 helicopters.

The FAA issued a notice of proposed rulemaking (NPRM) to amend 14 CFR part 39 by adding an AD that would apply to all Leonardo S.p.a. Model AW189 helicopters. The NPRM published in the Federal Register on December 21, 2023 (88 FR 88276). The NPRM was prompted by a determination that new or more restrictive airworthiness limitations are necessary. The NPRM proposed to require accomplishing the actions specified in EASA AD 2023-0161, as incorporated by reference, except for any differences identified as exceptions in the regulatory text of this AD and except as discussed under “Differences Between this AD and the EASA AD.” The FAA is issuing this AD to address the unsafe condition on these products.

You may examine the EASA AD in the AD docket at regulations.gov under Docket No. FAA-2023-2245.

Discussion of Final Airworthiness Directive

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters.

Related Service Information Under 1 CFR Part 51

EASA AD 2023-0161 requires replacing components before exceeding their life limits and accomplishing maintenance tasks within thresholds and intervals specified in the applicable ALS as defined in EASA AD 2023-0161. Depending on the results of the maintenance tasks, EASA AD 2023-0161 requires accomplishing corrective action(s) or contacting Leonardo [Leonardo S.p.a.] for approved instructions and accomplishing those instructions. EASA AD 2023-0161 also requires revising the Aircraft Maintenance Programme (AMP) by incorporating the limitations, tasks, and associated thresholds and intervals described in the specified ALS as applicable to the helicopter model and configuration. Revising the AMP constitutes terminating action for the requirement to record accomplishment of the actions of replacing components before exceeding their life limits and accomplishing maintenance tasks within the thresholds and intervals specified in the applicable ALS as required by EASA AD 2023-0161 for demonstration of AD compliance on a continued basis.

This material is reasonably available because the interested parties have access to it through their normal course of business or by the means identified in ADDRESSES.

Other Related Service Information

The FAA also reviewed Leonardo AW189 document 89-A-AMPI-00-P, Air Vehicle Maintenance Planning Information, Chapter 4, Airworthiness Limitations, Issue 25, dated July 5, 2023, for helicopters equipped with General Electric CT7-2E1 engines. This service information specifies procedures for airworthiness limitations, tasks, and associated thresholds and intervals for various parts; including a new or more restrictive airworthiness limitation for a certain component installed in the main rotor gearbox.

Differences Between This AD and the EASA AD

EASA AD 2023-0161 requires replacing certain components before exceeding applicable life limits, accomplishing certain maintenance tasks within thresholds and intervals as specified in the ALS, as defined within, and depending on the results, accomplishing corrective action within the compliance time specified in that ALS. EASA AD 2023-0161 also requires revising the approved AMP to incorporate the limitations, tasks, and associated thresholds and intervals described in that ALS within 12 months after its effective date. Whereas, this AD requires revising existing documents and programs within 30 days to incorporate the limitations, tasks, and associated thresholds and intervals described in that ALS, and clarifies that if an incorporated limitation or threshold therein is reached before 30 days after the effective date of this final rule, you still have up to 30 days after the effective date of this final rule to accomplish the corresponding task.

Additionally, EASA AD 2023-0161 requires using 89-E-AMPI-00-P Air Vehicle Maintenance Planning Information, Chapter 04, ALS Issue 09, dated July 5, 2023, for revising the ALS. This service information is applicable for helicopters equipped with SAFRAN ANETO-1K engines. This AD will not allow this service information because that engine has not been FAA type-certificated for Model AW189 helicopters.

Costs of Compliance

The FAA estimates that this AD affects 4 helicopters of U.S. Registry. Labor rates are estimated at $85 per work-hour. Based on these numbers, the FAA estimates the following costs to comply with this AD.

Revising the ALS of the existing helicopter maintenance manual or ICA for your helicopter and the existing approved maintenance or inspection program for your helicopter, as applicable, will take 2 work-hours for an estimated cost of $170 per helicopter and $680 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-05-07 Leonardo S.p.a.: Amendment 39-22698; Docket No. FAA-2023-2245; Project Identifier MCAI-2023-00973-R.

(a) Effective Date

This airworthiness directive (AD) is effective May 14, 2024.

(b) Affected ADs

None.

(c) Applicability

This AD applies to all Leonardo S.p.a. Model AW189 helicopters, certificated in any category.

(d) Subject

Joint Aircraft Service Component (JASC) Code: 6320, Main rotor gearbox.

(e) Unsafe Condition

This AD was prompted by a determination that new or more restrictive airworthiness limitations are necessary. The FAA is issuing this AD to address fatigue cracking, damage, and corrosion in principle structural elements. The unsafe condition, if not addressed, could result in failure of a part and loss of control of the helicopter.

(f) Compliance

Comply with this AD within the compliance times specified, unless already done.

(g) Required Actions

Except as specified in paragraphs (h) and (i) of this AD: Comply with all required actions and compliance times specified in, and in accordance with, European Union Aviation Safety Agency (EASA) AD 2023-0161, dated August 16, 2023 (EASA AD 2023-0161).

(h) Exceptions to EASA AD 2023-0161

(1) Where EASA AD 2023-0161 defines “the ALS” as “Leonardo AW189 document 89-A-AMPI-00-P (Air Vehicle Maintenance Planning Information), Chapter 04, Airworthiness Limitations Section (ALS) Issue 025, applicable for helicopters equipped with General Electric (GE) CT7-2E1 engines; or document 89-E-AMPI-00-P (Air Vehicle Maintenance Planning Information), Chapter 04, ALS Issue 09, applicable for helicopters equipped with SAFRAN ANETO-1K engines.;” for this AD, replace that definition with “Leonardo AW189 document 89-A-AMPI-00-P, Air Vehicle Maintenance Planning Information, Chapter 4, Airworthiness Limitations, Issue 25, dated July 5, 2023 (for helicopters equipped with General Electric CT7-2E1 engines).”

(2) Where EASA AD 2023-0161 refers to its effective date, this AD requires using the effective date of this AD.

(3) This AD does not adopt the requirements specified in paragraphs (1), (2), (4), and (5) of EASA AD 2023-0161.

(4) Where paragraph (3) of EASA AD 2023-0161 specifies “Within 12 months after the effective date of this AD, revise the approved AMP,” this AD requires replacing those words with “Within 30 days after the effective date of this AD, revise the airworthiness limitations section of your existing helicopter maintenance manual or instructions for continued airworthiness and your existing approved maintenance or inspection program, as applicable.”

(5) The initial compliance time for doing the tasks specified in paragraph (3) of EASA AD 2023-0161 is on or before the applicable “limitations” and “associated thresholds” as incorporated by the requirements of paragraph (3) of EASA AD 2023-0161, or within 30 days after the effective date of this AD, whichever occurs later.

(6) This AD does not adopt the “Remarks” section of EASA AD 2023-0161.

(i) Provisions for Alternative Actions, Thresholds, and Intervals, Including Life Limits

No alternative actions and associated thresholds and intervals, including life limits, are allowed for compliance with paragraph (g) of this AD unless they are approved as specified in the provisions of the “Ref. Publications” section of EASA AD 2023-0161.

(j) Special Flight Permit

Special flight permits are prohibited.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD. Information may be emailed to: 9-AVS-AIR-730-AMOC@faa.gov.

(2) Before using any approved AMOC, notify your appropriate principal inspector, or lacking a principal inspector, the manager of the local flight standards district office/certificate holding district office.

(l) Related Information

For more information about this AD, contact Sungmo Cho, Aviation Safety Engineer, FAA, 1600 Stewart Avenue, Suite 410, Westbury, NY 11590; phone (781) 238-7241; email: Sungmo.D.Cho@faa.gov.

(m) Material Incorporated by Reference

(1) The Director of the Federal Register approved the incorporation by reference of the service information listed in this paragraph under 5 U.S.C. 552(a) and 1 CFR part 51.

(2) You must use this service information as applicable to do the actions required by this AD, unless the AD specifies otherwise.

(i) European Union Aviation Safety Agency (EASA) AD 2023-0161, dated August 16, 2023.

(ii) [Reserved]

(3) For EASA AD 2023-0161, contact EASA, Konrad-Adenauer-Ufer 3, 50668 Cologne, Germany; telephone +49 221 8999 000; email ADs@easa.europa.eu; internet easa.europa.eu. You may find the EASA material on the EASA website at ad.easa.europa.eu.

(4) You may view this service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, visit www.archives.gov/federal-register/cfr/ibr-locations or email: fr.inspection@nara.gov.

Issued on March 4, 2024.
Victor Wicklund,
Deputy Director, Compliance & Airworthiness Division, Aircraft Certification Service.

[FR Doc. 2024-07343 Filed 4-8-24; 8:45 am]

BILLING CODE 4910-13-P